DEPARTMENT OF LABOR

Employment and Training Administration

[TA-W-65,036]

Oviso Manufacturing, Concord, CA; Notice of Termination of Investigation

Pursuant to Section 221 of the Trade Act of 1974, as amended, an investigation was initiated on January 29, 2009, in response to a worker petition filed by a State Workforce Office on behalf of workers at Oviso Manufacturing, Concord, California.

The petitioner has requested that the petition be withdrawn. Consequently, the investigation has been terminated.

Signed at Washington, DC, this 26th day of March 2009.
Linda G. Poole,
Certifying Officer, Division of Trade Adjustment Assistance.

[FR Doc. E9-8915 Filed 4-17-09; 8:45 am]

BILLING CODE 4510-FN-P